DEPARTMENT OF DEFENSE

United States Marine Corps; Privacy Act of 1974; System of Records

AGENCY: United States Marine Corps, DoD.

ACTION: Notice to Delete Five System of Records Notices.

SUMMARY: The U.S. Marine Corps is deleting five systems of records notices from its inventory of records systems subject to the Privacy Act of 1974, as amended (5 U.S.C. 552a).

DATES: Effective February 6, 2008.

ADDRESSES: Send comments to Headquarters, U.S. Marine Corps, FOIA/PA Section (CMC-ARSE), 2 Navy Annex, Room 1005, Washington, DC 20380-1775.

FOR FURTHER INFORMATION CONTACT: Ms. Tracy D. Ross at (703) 614-4008.

SUPPLEMENTARY INFORMATION: The U.S. Marine Corps' records systems notices for records systems subject to the Privacy Act of 1974 (5 U.S.C. 552a), as amended, have been published in the Federal Register and are available from the address above.

The U.S. Marine Corps proposes to delete five systems of records notices from its inventory of record systems subject to the Privacy Act of 1974 (5 U.S.C. 552a), as amended. The changes to the system of records are not within the purview of subsection (r) of the Privacy Act of 1974 (5 U.S.C. 552a), as amended, which requires the submission of new or altered systems reports.

Dated: January 30, 2008.
C.R. Choate,
Alternate OSD Federal Register Liaison Officer, Department of Defense.

Deletions

MMN00039

SYSTEM NAME:

Citizen Band Radio Request and Authorization File (January 4, 2000, 65 FR 291).

Reason: Navy/Marine system of records notice NM05000-2, Program Management and Locator System printed in the Federal Register on January 24, 2008 with the number of 73 FR 4194 is a joint Navy and Marine Corps system that covers this collection. Accordingly, all files have been merged into this system.

MMN00040

SYSTEM NAME:

Individual Training Records/Training Related Matters (January 4, 2000, 65 FR 291).

Navy/Marine system of records notice NM05000-2, Program Management and Locator System printed in the Federal Register on January 24, 2008 with the number of 73 FR 4194 is a joint Navy and Marine Corps system that covers this collection. Accordingly, all files have been merged into this system.

MMN00042

SYSTEM NAME:

Marine Corps Locator Files (February 22, 1993, 58 FR 10630).

Reason: Navy/Marine system of records notice NM05000-2, Program Management and Locator System printed in the Federal Register on January 24, 2008 with the number of 73 FR 4194 is a joint Navy and Marine Corps system that covers this collection. Accordingly, all files have been merged into this system.

MMN00047

SYSTEM NAME:

Officer Slate File System (February 22, 1993, 58 FR 10630).

Reason:

Navy/Marine system of records notice NM05000-2, Program Management and Locator System printed in the Federal Register on January 24, 2008 with the number of 73 FR 4194 is a joint Navy and Marine Corps system that covers this collection. Accordingly, all files have been merged into this system.

MTE00001

SYSTEM NAME:

Telephone Billing/Accounting File (January 4, 2000, 65 FR 291).

Reason:

Records collection no longer required.

[FR Doc. E8-2146 Filed 2-5-08; 8:45 am]

BILLING CODE 5001-06-P